ENVIRONMENTAL PROTECTION AGENCY

[FRL-10008-74-Region 10]

Clean Air Act Operating Permit Program; Petition for Objection to State Operating Permit for the U.S. Department of Energy—Hanford Operations, Benton County, Washington

AGENCY: Environmental Protection Agency (EPA).

ACTION: Notice of final Order on Petition for objection to Clean Air Act title V operating permit.

SUMMARY: The Environmental Protection Agency (EPA) Administrator signed an Order, dated February 19, 2020, denying a petition dated July 18, 2019, filed by Mr. Bill Green of Richland, Washington. The Petition requested that the EPA object to a Clean Air Act (CAA) title V operating permit (Permit No. 00-05-006, Renewal 3) issued by the Washington State Department of Ecology (Ecology) to the U.S. Department of Energy—Hanford Operations (DOE) for the Hanford site located in Benton County, Washington.

ADDRESSES: The Petition (without attachments) and final Order are available electronically at: https://www.epa.gov/title-v-operating-permits/title-v-petition-database.

Out of an abundance of caution for members of the public and our staff, the EPA Region 10 office is closed to the public to reduce the risk of transmitting COVID-19. Please contact the individual listed in the FOR FURTHER INFORMATION CONTACT section to view copies of the Petition, Order, and other supporting information.

FOR FURTHER INFORMATION CONTACT: Doug Hardesty at telephone number: (208) 378-5759, Hardesty.doug@epa.gov.

SUPPLEMENTARY INFORMATION: The CAA affords the EPA a 45-day period to review and object to a title V operating permit proposed by a state permitting authority under title V of the CAA if the EPA determines the permit does not comply with the Act. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from Mr. Bill Green of Richland, Washington, dated July 18, 2019, requesting that the EPA object to the issuance of title V operating permit no. 00-05-006, Renewal 3, issued by Ecology to DOE for the Hanford site in Benton County, Washington.

The Petition claims that: (1) Ecology exceeded its authority in imposing a monitoring method that had not been approved by the EPA for determining compliance with emission limits for federally-enforceable requirements and that the monitoring method was flawed; (2) the permit failed to include all emission limitations as required by CAA section 504(a), 42 U.S.C. 7661c(a), and 40 CFR 70.6(a)(1) because the permit incorporated some federally-enforceable emission limits by reference and “does not actually include emission limits;” (3) the permit did not include the requirements for the control of fugitive dust from a 2003 administrative order of correction issued by the Benton Clean Air Agency; and (4) Ecology did not comply with the public participation requirements of 40 CFR 70.7(h)(2) with respect to several permit terms.

On February 19, 2020, the EPA Administrator issued an Order denying the Petition. The Order explains the basis for the EPA's decision.

Sections 307(b) and 505(b)(2) of the CAA provide that the Order is subject to judicial review for those portions of the Order that deny issues raised in a petition. Any petition for review shall be filed in the United States Court of Appeals for the appropriate circuit no later than July 6, 2020.

Dated: April 30, 2020.
Christopher Hladick,
Regional Administrator, Region 10.

[FR Doc. 2020-09619 Filed 5-5-20; 8:45 am]

BILLING CODE 6560-50-P